SOCIAL SECURITY ADMINISTRATION

[Docket No SSA-2021-0002]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online, referencing Docket ID Number [SSA-2021-0002].

(SSA) Social Security Administration, OLCA, Attn: Reports Clearance Director, 3100 West High Rise, 6401 Security Blvd., Baltimore, MD 21235, Fax: 410-966-2830, Email address: OR.Reports.Clearance@ssa.gov

Or you may submit your comments online through https://www.reginfo.gov/public/do/PRAMain, referencing Docket ID Number [SSA-2021-0002].

I. The information collections below are pending at SSA. SSA will submit them to OMB within 60 days from the date of this notice. To be sure we consider your comments, we must receive them no later than April 5, 2021. Individuals can obtain copies of the collection instruments by writing to the above email address.

1. Supplement to Claim of Person Outside the United States—20 CFR 404.460, 404.46, 422.505(b), and 42 CFR 407.27(c)—0960-0051. Claimants or beneficiaries (both United States (U.S.) citizens and aliens entitled to benefits) living outside the U.S. complete Form SSA-21 as a supplement to an application for benefits. SSA collects the information to determine eligibility for U.S. Social Security benefits for those months an alien beneficiary or claimant is outside the U.S., and to determine if tax withholding applies. In addition, SSA uses the information to: (1) Allow beneficiaries or claimants to request a special payment exception in an SSA restricted country; (2) terminate supplemental medical insurance coverage for recipients who request it, because they are, or will be, out of the U.S.; and (3) allow claimants to collect a lump sum death benefit if the number holder died outside the U.S. and we do not have information to determine whether the lump sum death benefit is payable under the Social Security Act. The respondents are Social Security claimants, or individuals entitled to Social Security benefits, who are, were, or will be residing outside the United States for three months or longer.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
Paper version—U.S. Residents | 360 | 1 | 14 | 84 | * $18.23 | 24 | $4,156
Paper version—Residents of a Tax Treaty Country | 1,978 | 1 | 9 | 297 | * 18.23 |  | *** 5,414
Paper version —Nonresident aliens | 1,379 | 1 | 8 | 184 | * 18.23 |  | *** 3,354
Intranet version—(MCS)—U.S. Residents | 441 | 1 | 11 | 81 | * 18.23 |  | *** 1,477
Intranet version—(MCS)—Residents of a Tax Treaty Country | 2,426 | 1 | 6 | 243 | * 18.23 |  | *** 4,430
Intranet version—(MCS)—Nonresident aliens | 1,691 | 1 | 5 | 141 | * 18.23 |  | *** 2,570
Totals | 8,275 |  |  | 1,030 |  |  | *** 21,401
* We based this figure on averaging both the average DI payments based on SSA's current FY 2020 data (https://www.ssa.gov/legislation/2020Fact%20Sheet.pdf), and the average U.S. worker's hourly wages, as reported by Bureau of Labor Statistics data (https://www.bls.gov/oes/current/oes_nat.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete.

2. You Can Make Your Payment by Credit Card—0960-0462. Using information from Form SSA-4588 and its electronic application, Form SSA-4589, SSA updates individuals' Social Security records to reflect payments made on their overpayments. In addition, SSA uses this information to process payments through the appropriate credit card company. SSA provides the SSA-4588 when we inform an individual that we detected an overpayment. Individuals may choose to make a one-time payment or recurring monthly payments by completing and submitting the SSA-4588. SSA uses the SSA-4589 electronic Intranet application only when individuals choose to telephone the Program Service Centers to make a one-time payment in lieu of completing Form SSA-4588. An SSA debtor contact representative completes the SSA-4589 electronic Intranet application. Respondents are Old Age Survivors and Disability Insurance (OASDI) beneficiaries and Supplemental Security Income (SSI) recipients who have outstanding overpayments.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-4588 (Paper) | 16,500 | 1 | 10 | 2,750 | * $10.73 | ** 24 | *** $100,326
SSA-4589 (Electronic) | 258,500 | 1 | 5 | 21,542 | * 10.73 |  | *** 231,146
Totals | 275,000 |  |  | 24,292 |  |  | *** 331,472
* We based this figure on average DI payments based on SSA's current FY 2020 data (https://www.ssa.gov/legislation/2020Fact%20Sheet.pdf).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete.

3. Screen Pop—20 CFR 401.45—0960-0790. Section 205(a) of the Social Security Act requires SSA to verify the identity of individuals who request a record or information pertaining to themselves, and to establish procedures for disclosing personal information. SSA established Screen Pop, an automated telephone process, to speed verification for such individuals. Accessing Screen Pop, callers enter their Social Security number (SSN) using their telephone keypad or speech technology prior to speaking with a National 800 Number Network (N8NN) agent. The automated Screen Pop application collects the SSN and routes it to the “Start New Call” Customer Help and Information (CHIP) screen. Functionality for the Screen Pop application ends once the SSN connects to the CHIP screen and the SSN routes to the agent's screen. When the call connects to the N8NN agent, the agent can use the SSN to access the caller's record as needed. The respondents for this collection are individuals who contact SSA's N8NN to speak with an agent.

Type of Request: Revision of an OMB-approved information collection.

Modality of completion | Number of respondents | Frequency of response | Average burden per response (minutes) | Estimated total annual burden (hours) | Average theoretical hourly cost amount (dollars) * | Average wait time for teleservice centers (minutes) ** | Total annual opportunity cost (dollars) ***
Screen Pop | 50,487,044 | 1 | 1 | 841,451 | * $25.72 | ** 17 | *** $389,558,027
* We based this figure on average U.S. worker's hourly wages, as reported by Bureau of Labor Statistics data (https://www.bls.gov/oes/current/oes_nat.htm).
** We based this figure on the average FY 2020 wait times for teleservice centers, based on SSA's current management information data.
*** This figure does not represent actual costs that SSA is imposing on recipients of Social Security payments to complete this application; rather, these are theoretical opportunity costs for the additional time respondents will spend to complete the application. There is no actual charge to respondents to complete.

4. Application for Access to SSA Systems—20 CFR 401.45—0960-0791. SSA uses Form SSA-120, Application for Access to SSA Systems, to allow limited access to SSA's information resources for SSA employees and non-Federal employees (contractors). SSA requires supervisory approval, and local or component Security Officer review, before granting this access. The respondents are SSA employees and non-Federal Employees (contractors) who require access to SSA systems to perform their jobs.

Note: Because SSA employees are Federal workers exempt from the requirements of the Paperwork Reduction Act, the burden below is only for SSA contractors.

Type of Request: Revision of an OMB-approved information collection.

Modality of completion | Number of respondents | Frequency of response | Average burden per response (minutes) | Estimated total annual burden (hours) | Average theoretical hourly cost amount (dollars) * | Total annual opportunity cost (dollars) ***
SSA-120 (Paper version) | 685 | 1 | 2 | 23 | * $48.80 | ** $1,122
SSA-120 (Internet version) | 14,282 | 1 | 2 | 476 | * 48.80 | ** 23,229
Totals | 14,967 |  |  | 499 |  | *** 24,351
* We based this figure on average Federal Executive Branch worker's hourly wages, as reported by Bureau of Labor Statistics data (https://www.bls.gov/oes/current/naics4_999100.htm).
** This figure does not represent actual costs that SSA is imposing on recipients of Social Security payments to complete this application; rather, these are theoretical opportunity costs for the additional time respondents will spend to complete the application. There is no actual charge to respondents to complete the application.

5. Request to Show Cause for Failure to Appear—20 CFR 404.938, 404.957(b)(1), and 416.1438—0960-0794. When claimants who requested a hearing before a judge fail to appear at their scheduled hearing, the judge may reschedule the hearing if the claimants establish good cause for missing the hearings. To establish good cause, respondents must show proof of one of the following: (1) SSA did not properly notify the claimant of the hearing; or (2) an unexpected event occurred without sufficient time for the claimant to request a postponement. The claimants can use paper Form HA-L90 or HA-L90-OP1 to provide their reason for not appearing at their scheduled hearings; or the claimants' representatives can use Electronic Records Express (ERE), OMB Control No. 0960-0753, to submit the HA-L90 online. SSA uses the HA-L90 for new cases, and the HA-L90-OP1 for redetermination cases. We need two versions of the paper form, as the judge follows different procedures when determining the good cause on redetermination cases (cases that have a prior decision and evidence on file), than they do for new cases (where we have no evidence on file). The ERE modality adjusts for redetermination cases, so we only need one version of the internet screens. If the judge determines the claimant established good cause for failure to appear at the hearing, the judge will schedule a supplemental hearing; if not, the judge will make a claims eligibility determination based on the claimants' evidence of record. Respondents are claimants, or their representatives, seeking to establish good cause for failure to appear at a scheduled hearing before a judge.

Type of Request: Revision of an OMB-approved information collection.

Modality of completion | Number of respondents | Frequency of response | Average burden per response (minutes) | Estimated total annual burden (hours) | Average theoretical hourly cost amount (dollars) * | Total annual opportunity cost (dollars) ***
HA-L90 | 39,500 | 1 | 10 | 6,583 | * $18.23 | ** $120,008
HA-L90-OP1 | 500 | 1 | 10 | 83 | * 18.23 | ** 1,513
Totals | 40,000 |  |  | 6,666 |  | ** 121,521
* We based this figure on averaging both the average DI payments based on SSA's current FY 2020 data (https://www.ssa.gov/legislation/2020Fact%20Sheet.pdf), and the average U.S. worker's hourly wages, as reported by Bureau of Labor Statistics data (https://www.bls.gov/oes/current/oes_nat.htm).
** This figure does not represent actual costs that we are imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than March 8, 2021. Individuals can obtain copies of these OMB clearance packages by writing to OR.Reports.Clearance@ssa.gov.

1. Help America Vote Act—0960-0706. Public Law 107-252, the Help America Vote Act of 2002, mandates that States verify the identities of newly registered voters. When newly registered voters do not have driver's licenses or State-issued ID cards, they must supply the last four digits of their Social Security number to their local State election agencies for verification. The election agencies forward this information to their State Motor Vehicle Administration (MVA), and the State MVA inputs the data into the American Association of MVAs, a central consolidation system that routes the voter data to SSA's Help America Vote Verification (HAVV) system. Once SSA's HAVV system verifies the Social Security Number of the voter, the information returns along the same route in reverse until it reaches the State election agency. The respondents are the State MVAs seeking to confirm voter identities.

Type of Request: Revision of an OMB-approved information collection.

Modality of completion | Number of respondents | Frequency of response | Number of responses | Average burden per response (minutes) | Estimated total annual burden (hours) | Average theoretical hourly cost amount (dollars) * | Total annual opportunity cost (dollars) **
HAVV | 48 | 87,332 | 4,191,936 | 2 | 139,731 | * $17.51 | ** $2,446,690
* We based this figure on average local government information and records clerk's salary shown on the Bureau of Labor Statistic's website (https://www.bls.gov/oes/current/oes434199.htm).
** This figure does not represent actual costs that SSA is imposing on recipients of Social Security payments to complete this application; rather, these are theoretical opportunity costs for the additional time respondents will spend to complete the application. There is no actual charge to respondents to complete the application.

Cost Burden: Per our current management information data, the 48 state MVAs participating in HAVA each pay an annual maintenance cost of $4,400. Additionally, states pay .05 cents per verification request. Therefore, the total cost to respondents is $420,797.

2. Incoming and Outgoing Intergovernmental Personnel Act Assignment Agreement—5 CFR part 334—0960-0792. The Intergovernmental Personnel Act (IPA) mobility program provides for the temporary assignment of civilian personnel between the Federal Government and State and local governments; colleges and universities; Indian tribal governments; federally funded research and development centers; and other eligible organizations. The Office of Personnel Management (OPM) created a generic form, the OF-69, for agencies to use as a template when collecting information for the IPA assignment. The OF-69 collects information about the assignment including: (1) The enrolled employee's name, Social Security number, job title, salary, classification, and address; (2) the type of assignment; (3) the reimbursement arrangement; and (4) an explanation as to how the assignment benefits both SSA and the non-federal organization involved in the exchange. OPM directs agencies to use their own forms for recording these agreements. Therefore, SSA modified the OF-69 to meet our needs, creating the SSA-187 for incoming employees and the SSA-188 for outgoing employees. SSA collects information on the SSA-187 and SSA-188 to document the IPA assignment, and to serve as an agreement between the agencies. Respondents are personnel from State and local governments; colleges and universities; Indian tribal governments; federally funded research and development centers; and other eligible organizations who participate in the IPA exchange with SSA.

Type of Request: Revision of an OMB-approved information collection.

Modality of completion | Number of respondents | Frequency of response | Average burden per response (minutes) | Estimated total annual burden (hours) | Average theoretical hourly cost amount (dollars) * | Total annual opportunity cost (dollars) **
Non-Federal employee | 3 | 1 | 30 | 2 | * $50.00 | ** $100
Non-Federal employer signers | 12 | 1 | 5 | 1 | * 50.00 | ** 50
Totals | 15 |  |  | 3 |  | ** 150
* We based this figure on averaging the average of Postsecondary Education Administrators and Executive Branch Management Analysts hourly wages, as reported by Bureau of Labor Statistics data (https://www.bls.gov/oes/current/oes119033.htm & https://www.bls.gov/oes/current/oes131111.htm).
** This figure does not represent actual costs that SSA is imposing on recipients of Social Security payments to complete this application; rather, these are theoretical opportunity costs for the additional time respondents will spend to complete the application. There is no actual charge to respondents to complete the application.

Dated: February 1, 2021.
Naomi Sipple,
Reports Clearance Officer, Social Security Administration.

[FR Doc. 2021-02341 Filed 2-3-21; 8:45 am]

BILLING CODE 4191-02-P